DEPARTMENT OF ENERGY

Federal Energy Regulatory Commission

Combined Notice of Filings #2

October 21, 2005.

Take notice that the Commission received the following electric rate filings.

Docket Numbers: ER04-230-018; ER01-3155-013; ER01-1385-022; EL01-45-021.

Applicants: New York Independent System Operator, Inc.

Description: New York Independent System Operator submits Third Revised Sheet No. 472A et al. to FERC Electric Tariff, Original Volume No. 2 as a revision to Market Monitoring Mitigation Measures.

Filed Date: October 17, 2005.

Accession Number: 20051019-0027.

Comment Date: 5 p.m. Eastern Time on Monday, November 7, 2005.

Docket Numbers: ER04-691-064; EL04-104-061.

Applicants: Midwest Independent Transmission System Operator, Inc.

Description: Midwest Independent Transmission System Operator, Inc submits proposed revisions to section 10 of its Open Access Transmission and Energy Markets Tariff, FERC Electric Tariff, Third Revised Volume No. 1.

Filed Date: October 17, 2005.

Accession Number: 20051018-0015.

Comment Date: 5 p.m. Eastern Time on Monday, November 7, 2005.

Docket Numbers: ER05-1422-002.

Applicants: Calpine Merchant Services Company, Inc.

Description: Calpine Merchant Services Co., Inc. files an amendment to the Notice of Succession filed on September 1, 2005.

Filed Date: October 17, 2005.

Accession Number: 20051018-0011.

Comment Date: 5 p.m. Eastern Time on Monday, November 7, 2005.

Docket Numbers: ER05-215-005.

Applicants: Midwest Independent Transmission System Operator, Inc.

Description: Midwest Independent Transmission System Operator, Inc. submits the Second Revised Sheets Nos. 84, 94 and 96 through 98 of the Large Generator Interconnection Agreement with Prairie State Generating Co., LLC, Midwest ISO, and Ameren Services Company, acting as agent for Illinois Power Company.

Filed Date: October 17, 2005.

Accession Number: 20051019-0026.

Comment Date: 5 p.m. Eastern Time on Monday, November 7, 2005.

Docket Numbers: ER05-386-002.

Applicants: Interstate Power Company.

Description: Interstate Power Co. submits a revised First Amendment to the 4/1/80 Agreement for Integrated Transmission Area.

Filed Date: October 17, 2005.

Accession Number: 20051019-0028.

Comment Date: 5 p.m. Eastern Time on Monday, November 7, 2005.

Docket Numbers: ER05-636-002.

Applicants: Midwest Independent Transmission System Operator, Inc.

Description: Midwest Independent Transmission System Operator, Inc. submits the Large Generator Interconnection Agreement with Columbia Community Windpower LLC, Midwest ISO, and American Transmission Co., LLC.

Filed Date: October 17, 2005.

Accession Number: 20051019-0017.

Comment Date: 5 p.m. Eastern Time on Monday, November 7, 2005.

Docket Numbers: ER05-662-002.

Applicants: Midwest Independent Transmission System Operator, Inc.

Description: Midwest Independent Transmission System Operator, Inc. submits its Large Generator Interconnection Agreement with Darlington Wind Farm, LLC, Midwest ISO, and American Transmission Company LLC.

Filed Date: October 17, 2005.

Accession Number: 20051019-0020.

Comment Date: 5 p.m. Eastern Time on Monday, November 7, 2005.

Docket Numbers: ER05-864-001.

Applicants: Midwest Independent Transmission System Operator, Inc.

Description: Midwest Independent Transmission System Operator, Inc. submits its the Large Generator Interconnection Agreement among Forward Energy LLC, Midwest ISO, and American Transmission Co. LLC.

Filed Date: October 17, 2005.

Accession Number: 20051019-0019.

Comment Date: 5 p.m. Eastern Time on Monday, November 7, 2005.

Docket Numbers: ER06-31-000.

Applicants: Cleco Power LLC.

Description: Cleco Power LLC's notice of cancellation of the interchange & unit contingent capacity & associated energy agreement with Noram Energy Services.

Filed Date: October 12, 2005.

Accession Number: 20051017-0223.

Comment Date: 5 p.m. Eastern Time on Monday, November 2, 2005.

Docket Numbers: ER06-43-000.

Applicants: Exelon Power Generation, LLC.

Description: Application of Commonwealth Edison Co and Exelon Generation Co., LLC under section 205 of the Federal Power Act including a service agreement between ExGen and ComEd, copy of the signature page filed on October 18, 2005 under accession number 20051019-0264.

Filed Date: October 17, 2005.

Accession Number: 20051019-0004.

Comment Date: 5 p.m. Eastern Time on Monday, November 7, 2005.

Docket Numbers: ER06-46-000.

Applicants: FirstEnergy Service Company.

Description: FirstEnergy Services Co. submits a Nuclear Sale/Leaseback Power Supply Agreement with Ohio Edison Co. and the Toledo Edison Co.

Filed Date: October 17, 2005.

Accession Number: 20051019-0270.

Comment Date: 5 p.m. Eastern Time on Monday, November 7, 2005.

Docket Numbers: ER06-47-000.

Applicants: FirstEnergy Service Company.

Description: FirstEnergy Supply Co. submits the Mansfield Power Supply Agreement with the Cleveland Electric Illuminating Co. and the Toledo Edison Co.

Filed Date: October 17, 2005.

Accession Number: 20051020-0275.

Comment Date: 5 p.m. Eastern Time on Monday, November 7, 2005.

Docket Numbers: ER06-48-000.

Applicants: FirstEnergy Generation Corp.

Description: FirstEnergy Generation Corp. submits a Genco Power Supply Agreement between the FirstEnergy Generation Corp. and FirstEnergy Solutions Corp.

Filed Date: October 17, 2005.

Accession Number: 20051020-0277.

Comment Date: 5 p.m. Eastern Time on Monday, November 7, 2005.

Docket Numbers: ER06-49-000.

Applicants: FirstEnergy Nuclear Generation Corp.

Description: FirstEnergy Nuclear Generation Corp. submits an agreement between FirstEnergy Nuclear Generation Corp. and FirstEnergy Solutions Corp.

Filed Date: October 17, 2005.

Accession Number: 20051020-0279.

Comment Date: 5 p.m. Eastern Time on Monday, November 7, 2005.

Docket Numbers: ER96-2495-027; ER97-4143-015; ER97-1238-022; ER98-2075-021; ER98-542-017.

Applicants: AEP Power Marketing, Inc.; AEP Service Corporation, CSW Power Marketing, Inc.; CSW Energy Services, Inc.; and Central and South West Services, Inc.

Description: AEP Power Marketing, Inc. et al. report changes in the information upon which the Commission relied in granting market-based rate authority.

Filed Date: October 14, 2005.

Accession Number: 20051018-0127.

Comment Date: 5 p.m. Eastern Time on Friday, November 4, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Magalie R. Salas,
Secretary.

[FR Doc. E5-5967 Filed 10-26-05; 8:45 am]

BILLING CODE 6717-01-P